DEPARTMENT OF TRANSPORTATION

Surface Transportation Board

[STB Finance Docket No. 34629]

Indiana & Ohio Railway Company—Trackage Rights Exemption—West Central Ohio Port Authority and Indiana & Ohio Central Railroad, Inc.

Pursuant to a written trackage rights agreement dated October 16, 2004, the Indiana & Ohio Central Railroad, Inc. (IOCR), as operator, and West Central Ohio Port Authority (WESTCO PA), as owner, have agreed to grant overhead trackage rights to Indiana & Ohio Railway Company (IORY), between milepost 202.7 near Springfield, OH, and milepost 229.83 at Fayne, OH, a distance of approximately 27.13 miles.¹

¹ IOCR currently operates over the rail line. IORY and IOCR are both subsidiaries of RailAmerica, Inc., and will coordinate operations over the line once IOCR begins operations pursuant to these trackage rights.

The parties state that consummation of the transaction was scheduled to occur on or shortly after December 15, 2004.

The involved trackage rights will enable IORY to enhance service for certain shippers and provide more efficient and economical routings and service for this traffic.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34629, must be filed with the Surface Transportation Board, 1925 K Street, NW., Washington, DC 20423-0001. In addition, a copy of each pleading must be served on Louis E. Gitomer, Ball Janik LLP, 1455 F Street, NW., Suite 225, Washington, DC 20005.

Board decisions and notices are available on our Web site at http://www.stb.dot.gov.

Decided: December 17, 2004.
By the Board, David M. Konschnik, Director, Office of Proceedings.
Vernon A. Williams,
Secretary.

[FR Doc. 04-28175 Filed 12-23-04; 8:45 am]

BILLING CODE 4915-01-P